FEDERAL MINE SAFETY AND HEALTH REVIEW COMMISSION

Sunshine Act Meeting Notice

December 4, 2015.

TIME AND DATE: 11:00 a.m., Thursday, December 17, 2015.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Lewis-Goetz and Company, Inc., Docket No. WEVA 2012-1821. (Issues include whether the Judge erred in ruling that a mine operator was not strictly liable for violations of a standard requiring that safety belts and lines be worn by miners under prescribed conditions.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2015-30979 Filed 12-4-15; 11:15 am]

BILLING CODE 6735-01-P